FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012150.

Title: COSCON/POS Space Charter and Sailing Agreement.

Parties: COSCO Container Lines Company, Ltd. and Hainan P.O. Shipping Co., Ltd.

Filing Party: Robert B. Yoshitomi, Esq.; Nixon Peabody LLP; 555 West Fifth Street, 46th Floor; Los Angeles, CA 90013.

Synopsis: The agreement authorizes COSCO to charter space to Hainan POS in the trade between U.S. West Coast ports and ports in China and Vietnam.

Agreement No.: 012151.

Title: Maersk Line/MSC WCCA Space Charter Agreement.

Parties: A.P. Moller-Maersk A/S and MSC Mediterranean Shipping Company, S.A.

Filing Party: Wayne R. Rohde, Esquire; Cozen O'Connor; 1627 I Street, NW., Suite 1100; Washington, DC 20006-4007.

Synopsis: The agreement authorizes Maersk to charter space to MSC in the trade between Los Angeles and ports in Mexico and Panama.

Dated: January 6, 2012.
By Order of the Federal Maritime Commission.
Rachel E. Dickon,
Assistant Secretary.

[FR Doc. 2012-390 Filed 1-10-12; 8:45 am]

BILLING CODE 6730-01-P